SOCIAL SECURITY ADMINISTRATION

20 CFR Chapter III

[Docket No. SSA-2011-0042]

Retrospective Review Under E.O. 13563

AGENCY: Social Security Administration.

ACTION: Request for information.

SUMMARY: In accordance with Executive Order (E.O.) 13563, “Improving Regulation and Regulatory Review,” we are announcing that our preliminary plan for retrospective review is available for public comment. We are now requesting comments on the plan.

DATES: To be sure that we consider your comments, we must receive them by June 27, 2011.

ADDRESSES: Please send your comments to RegsReview@ssa.gov.

FOR FURTHER INFORMATION CONTACT: Martin Sussman, Senior Advisor for Regulations, Social Security Administration, 6401 Security Boulevard, Baltimore, MD 21235-6401, (410) 965-1767. For information on eligibility or filing for benefits, call our national toll-free number, 1-800-772-1213 or TTY 1-800-325-0778, or visit our Internet site, Social Security Online, at http://www.socialsecurity.gov.

SUPPLEMENTARY INFORMATION: On January 18, 2011, the President issued E.O. 13563, “Improving Regulation and Regulatory Review,” which requires Federal agencies to develop a preliminary plan to “periodically review its existing significant regulations” (section 6(b)). On January 25, 2011, we issued a press release and posted information on our Open Government Web site requesting public comment about which of our regulations we should review to ensure they are not outmoded, ineffective, insufficient, or excessively burdensome.

We developed a preliminary plan for retrospective review and submitted it to the Office of Information and Regulatory Affairs in the Office of Management and Budget. The plan focuses on our process for updating the Listing of Impairments (Listings) that we use to evaluate disability claims under titles II and XVI of the Social Security Act (Act). The listings are examples of impairments that we consider severe enough to prevent an adult from doing any gainful activity or that we consider severe enough to result in marked and severe functional limitations for a child seeking SSI payments. The plan also includes two initiatives to reduce paperwork burdens on the public imposed by certain agency regulations.

We have posted the preliminary plan on our Open Government Web site, http://www.socialsecurity.gov/open/regsreview, and are now requesting public comments on the plan. Please note that in this notice, we are not requesting comments on the content of the Listings, but rather on the plan itself, which describes our process for updating the Listings. We will carefully review all comments, but we will not to respond to them individually.

Dated: May 25, 2011.
Dean Landis,
Deputy Chief of Staff, Social Security Administration.

[FR Doc. 2011-13620 Filed 6-1-11; 8:45 am]

BILLING CODE 4191-02-P